Title 3—

The President

Proclamation 10816 of September 20, 2024

Asian American and Native American Pacific Islander-Serving Institutions Week, 2024

By the President of the United States of America

A Proclamation

Our Nation's nearly 200 Asian American and Native American Pacific Islander-Serving Institutions (AANAPISIs) open doors of opportunity for millions of Asian American, Native Hawaiian, and Pacific Islander (AA and NHPI) students. AANAPISIs provide a pathway to the middle class and a better life for their students, many of whom often come from low-income neighborhoods and may be the first in their families to attend college. During AANAPISI Week, we celebrate these critical institutions for the resources and support they provide to students, and we recommit to advancing their mission and success.

AANAPISIs play a critical role in the lives of so many of our Nation's AA and NHPI students. In addition to a quality education, these institutions meet AA and NHPI students where they are and foster inclusive learning environments—providing tutoring, career development, counseling, culturally and linguistically responsive services, and more. AANAPISIs confer more than half of all associate degrees and more than a third of baccalaureate degrees that AA and NHPI students earn.

My Administration is committed to strengthening our AANAPISIs so that more AA and NHPI students can reach their full potential. My American Rescue Plan delivered $5 billion to AANAPISIs. The Department of Education has invested in increasing the number of diverse and talented teachers by funding programs at Minority Serving Institutions that serve large percentages of AA and NHPI populations. Across my Administration, Federal agencies are working to expand the capacity of AANAPISIs and strengthen their programs. And I re-established the White House Initiative on Asian Americans, Native Hawaiians, and Pacific Islanders and released a National Strategy to Advance Equity, Justice, and Opportunity for AA and NHPI Communities. These actions work to ensure AA and NHPI communities have the resources they need to thrive.

My Administration is also working to make college more affordable for all students. We provided a $900 increase to the maximum Pell Grant award—the largest increase in over a decade, canceled debt for hundreds of thousands of borrowers through the Public Service Loan Forgiveness program, and taken steps to help borrowers manage their payments through income-driven repayment. And earlier this year, I laid out my Administration's new plans that would cancel student debt for more than 30 million Americans when combined with everything we have done so far.

I have always believed that the American Dream is big enough for everyone—and every generation has benefited by opening the doors of opportunity a bit wider for those behind them. During AANAPISI Week, may we celebrate the nearly 200 institutions across our Nation that ensure generations of AA and NHPI students can pursue the limits of their talents and ambitions. May we recognize that diversity will always be one of our Nation's greatest strengths. And may we celebrate all our Nation's AA and NHPI students.

NOW, THEREFORE, I, JOSEPH R. BIDEN JR., President of the United States of America, by virtue of the authority vested in me by the Constitution and the laws of the United States, do hereby proclaim September 23 through September 29, 2024, as Asian American and Native American Pacific Islander-Serving Institutions Week. I call on public officials, educators, and all the people of the United States to observe this week with appropriate programs, ceremonies, and activities that acknowledge the many ways these institutions and their graduates contribute to our country.

IN WITNESS WHEREOF, I have hereunto set my hand this twentieth day of September, in the year of our Lord two thousand twenty-four, and of the Independence of the United States of America the two hundred and forty-ninth.

[FR Doc. 2024-22122

Filed 9-24-24; 8:45 am]

Billing code 3395-F4-P